DEPARTMENT OF ENERGY

Federal Energy Regulatory Commission

[Docket Nos. PL04-15-000, RM02-12-000, RM02-1-001, RM02-1-005]

Interconnection for Wind Energy and Other Alternative Technologies, Standardization of Small Generator Interconnection Agreements and Procedures, Standardizing Generator Interconnection Agreements and Procedures; Supplemental Notice of Technical Conference

September 14, 2004.

In the Notices of Technical Conference issued August 27, 2004 and September 8, 2004, the Federal Energy Regulatory Commission announced that it would host a technical conference on Friday, September 24, 2004 to discuss a petition for rulemaking submitted by the American Wind Energy Association (AWEA) related to the adoption of certain requirements for the interconnection of large wind generators.

In those notices parties interested in speaking at the conference were asked to file their requests through an on-line form on the FERC Web site. However, technical difficulties resulted in the loss of information from several speaker requests.

Parties who filed speaker requests are therefore asked to resubmit their requests by contacting Sarah McKinley at (202) 502-8368 or at sarah.mckinley@ferc.gov.

Linda Mitry,
Acting Secretary.

[FR Doc. E4-2255 Filed 9-17-04; 8:45 am]

BILLING CODE 6717-01-P